DEPARTMENT OF DEFENSE

Office of the Secretary

Strategic Environmental Research and Development Program, Scientific Advisory Board

Correction

In notice document 04-10586 appearing on page 26078 in the issue of Tuesday, May 11, 2004, make the following correction:

In the third column, under the DATES heading, in the first line, “June 8, 2004” should read “June 9, 2004”.

[FR Doc. C4-10586 Filed 6-3-04; 3:19 pm]

BILLING CODE 1505-01-D

DEPARTMENT OF TRANSPORTATION

Federal Aviation Administration

14 CFR Part 71

[Docket No. FAA-2004-17420; Airspace Docket No. 04-ACE-21]

Modification of Class E Airspace; Moberly, MO

Correction

In rule document 04-9916 beginning on page 24064 in the issue of Monday, May 3, 2004, make the following correction:

§71.1 [Corrected]

On page 24065, in § 71.1, in the third column, under the heading “ACE MO E5 Moberly, MO” in the second line, “(Lat. 30°27′50″ N.,” should read “ (Lat. 39°27′50″ N.,”.

[FR Doc. C4-9916 Filed 6-4-04; 8:45 am]

BILLING CODE 1505-01-D